DEPARTMENT OF ENERGY

10 CFR Part 431

[EERE-2020-BT-TP-0032]

RIN 1904-AE53

Energy Conservation Program: Test Procedure for Commercial & Industrial Pumps

AGENCY: Office of Energy Efficiency and Renewable Energy, Department of Energy.

ACTION: Request for information; extension of public comment period.

SUMMARY: On April 16, 2021, the U.S. Department of Energy (“DOE”) published a request for information (“RFI”) pertaining to the test procedure for commercial and industrial pumps (“pumps”). The notice provided an opportunity for submitting written comments, data, and information by June 1, 2021. On April 19, 2021, DOE received a request from Price Pump Company (“Price Pump”), and on April 20, 2021, DOE received requests from Grundfos and the Hydraulic Institute (“HI”) to extend the public comment period by 90 days. DOE has reviewed these requests and is granting a 30-day extension of the public comment period to allow public comments to be submitted until July 1, 2021.

DATES: The comment period for the RFI published on April 16, 2021 (86 FR 20075) is extended. DOE will accept comments, data, and information regarding this RFI received no later than July 1, 2021.

ADDRESSES: Interested persons are encouraged to submit comments using the Federal eRulemaking Portal at http://www.regulations.gov. Follow the instructions for submitting comments. Alternatively, interested persons may submit comments, identified by docket number EERE-2020-BT-TP-0032 by any of the following methods:

1. Federal eRulemaking Portal: http://www.regulations.gov. Follow the instructions for submitting comments.

2. Email: To Pumps2020TP0032@ee.doe.gov. Include docket number EERE-2020-BT-TP-0032 in the subject line of the message.

No telefacsimilies (“faxes”) will be accepted.

Although DOE has routinely accepted public comment submissions through a variety of mechanisms, including postal mail and hand delivery/courier, the Department has found it necessary to make temporary modifications to the comment submission process in light of the ongoing Covid-19 pandemic. DOE is currently suspending receipt of public comments via postal mail and hand delivery/courier. If a commenter finds that this change poses an undue hardship, please contact Appliance Standards Program staff at (202) 586-1445 to discuss the need for alternative arrangements. Once the Covid-19 pandemic health emergency is resolved, DOE anticipates resuming all of its regular options for public comment submission, including postal mail and hand delivery/courier.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at: http://www.regulations.gov/docket?D=EERE-2020-BT-TP-0032. The docket web page contains instructions on how to access all documents, including public comments, in the docket.

FOR FURTHER INFORMATION CONTACT: Mr. Jeremy Dommu, U.S. Department of Energy, Office of Energy Efficiency and Renewable Energy, Building Technologies Office, EE-2J, 1000 Independence Avenue SW, Washington, DC 20585-0121. Telephone: (202) 586-9870. Email: ApplianceStandardsQuestions@ee.doe.gov.

Mr. Michael Kido, U.S. Department of Energy, Office of the General Counsel, GC-33, 1000 Independence Avenue SW, Washington, DC 20585-0121. Telephone: (202) 586-8145. Email: Michael.Kido@hq.doe.gov.

For further information on how to submit a comment or review other public comments and the docket contact the Appliance and Equipment Standards Program staff at (202) 287-1445 or by email: ApplianceStandardsQuestions@ee.doe.gov.

SUPPLEMENTARY INFORMATION: On April 16, 2021, DOE published a RFI seeking data and information regarding whether amended test procedures would more accurately or fully comply with the requirement that the test procedure produces results that measure energy use during a representative average use cycle for pumps without being unduly burdensome to conduct, or that reduce testing burden. 86 FR 20075. Interested parties in the matter, Price Pump (on April 19, 2021), HI (on April 20, 2021), and Grundfos (on April 20, 2021), requested a 90-day extension of the public comment period for the RFI. (Price Pump, No. 10 at p. 1; HI, No. 11 at p. 1; Grundfos, No. 12, at p. 1).¹ Grundfos and Price Pump commented that the June 1, 2021 deadline does not provide sufficient time to collect the requested data and information requested in the RFI. (Price Pump, No. 10 at p. 1; Grundfos, No. 12 at p. 1 HI commented that it has developed a committee to review and respond to DOE's requests for comment, and requires additional time to develop and review member surveys and coordinate a response. (HI, No. 11, p.1)

¹ The parenthetical reference provides a reference for information located in DOE's test procedure rulemaking docket. (Docket No. EERE-2020-BT-TP-0032, which is maintained at http://www.regulations.gov/#!docketDetail;D=EERE-2020-BT-TP-0032). The references are arranged as follows: (Commenter name, comment docket ID number, page of that document).

DOE has reviewed the requests and is extending the comment period to allow additional time for interested parties to submit comments. As noted, the RFI was issued as part of the preliminary stages of rulemaking to consider amendments to the test procedure for pumps. If DOE determines that amended test procedures may be appropriate, additional notices will be published (e.g., a notice of proposed rulemaking) providing interested parties with an additional opportunity to submit comment. As such, DOE has determined that a 30-day extension is sufficient for this preliminary stage. Therefore, DOE is extending the comment period to July 1, 2021.

Signing Authority

This document of the Department of Energy was signed on April 27, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 28, 2021.
Treena V. Garrett,
Federal Register Liaison Officer, U.S. Department of Energy.

[FR Doc. 2021-09274 Filed 5-4-21; 8:45 am]

BILLING CODE 6450-01-P